DEPARTMENT OF HEALTH AND HUMAN SERVICES

Administration for Children and Families

National Child Care Hotline and Web Site; Comment Request

AGENCY: Administration for Children and Families (ACF), Department of Health and Human Services (HHS).

ACTION: Notice.

SUMMARY: As authorized by section 658L(b) of the Child Care and Development Block Grant (CCDBG) Act (42 U.S.C. 9858j(b)), as amended by the CCDBG Act of 2014 (Pub. L. 113-186), the Administration for Children and Families (ACF) is developing a National toll-free hotline and Web site for child care. We are interested in comments that describe effective design features and easy-to-use functions for a national Web site that will link to new and existing state and local Web sites. The Web site will disseminate easy-to-understand information about Child Care and Development Fund (CCDF) funded child care providers for parents of eligible children, the general public, and providers. The new national hotline will link to new and existing CCDF Lead Agency hotlines where users can report possible health and safety violations or instances of child abuse and neglect in CCDF-eligible provider settings.

ACF previously asked for comments and suggestions related to the national Web site for consumer education, submission of complaints and related provisions in the CCDBG Act in a Notice of Proposed Rulemaking (80 FR 80465, Dec. 24, 2015, available online at https://federalregister.gov/a/2015-31883). If you have already commented on this regulatory process, there is no need to duplicate your comments. However, if your comments are more closely related to the design, functionality, or other considerations of the national Web site or hotline, we invite your additional comments here.

DATES: The deadline for receipt of comments is midnight, April 7, 2016.

ADDRESSES: Submit comments to NHWcomment@acf.hhs.gov.

SUPPLEMENTARY INFORMATION:

The CCDBG Act of 2014

Two of the CCDBG Act's purposes are “to promote parental choice to empower working parents to make their own decisions regarding the child care services that best suits their family's needs” and “to encourage States to provide consumer education information to help parents make informed choices about child care services and to promote involvement by parents and family members in the development of their children in child care settings” (42 U.S.C. 9857(b)(1) & (3)). Subpart D of the proposed regulations describes parental rights and responsibilities and provisions related to parental choice, including requirements that Lead Agencies maintain a record of parental complaints and consumer education activities conducted by Lead Agencies to increase parental awareness of the range of child care options available to them.

Lead Agency Consumer Education Web site

ACF has proposed amending paragraph (a) of § 98.33 to require Lead Agencies “to collect and disseminate consumer education information to parents of eligible children, the general public, and providers through a consumer-friendly and easily accessible Web site” (80 FR 80569-70) Consistent with new requirements enacted by the CCDBG Act of 2014, the proposed regulations would require state Web sites to, at a minimum, include five components: (1) Lead Agency policies and procedures, (2) provider-specific information, (3) aggregate number of deaths, serious injuries, and instances of substantiated child abuse in child care settings each year, (4) referral to local child care resource and referral organizations, and (5) directions on how parents can contact the Lead Agency, or its designee, and other programs to better understand information on the Web site.

The reauthorized CCDBG Act also requires the Secretary to operate, either directly or through the use of grants or contracts, a national Web site and a national toll free hotline. Both the national Web site and hotline must have the capacity to help families in every state and community in the nation.

National Consumer Education Web site

While the primary responsibility to operate a parental complaint hotline and a consumer education Web site remains with Lead Agencies, the CCDBG Act also requires the Secretary to operate a national Web site for consumer education and submission of complaints (42 U.S.C. 9858j(b)). The statute requires several components be included in the national Web site, including many of the same requirements of the Lead Agency consumer education Web sites. We propose to incorporate all requirements of the national Web site into the requirements of the Lead Agency consumer education Web site, including the localized list of child care providers searchable by zip code proposed at § 98.33(a)(2)(i) (80 FR 80570). The statute allows for the national Web site to provide the information either “directly or through linkages to State databases” (42 U.S.C. 9858j(b)(2)(b)). It is not feasible or practical for HHS to recreate databases many states have already created. Therefore, we are proposing to require Lead Agencies to include these components in their databases and Web sites to which we plan to link the national Web site.

ACF intends to design a national Web site that will respond to the CCDBG Act requirements and will connect to state, territory, and local systems, if available, provide an additional entry point to Lead Agency Web sites for families seeking information, and make that information available in multiple languages. The national Web site will not create a national database or duplicate Lead Agency systems already in place.

The national Web site will be hosted by `childcare.gov' and refer users to local child care providers 24 hours a day. The Web site will provide easy-to-understand child care consumer education and referral services and enable a child care consumer to enter a zip code and obtain a referral to local child care providers within a specified search radius.

The national Web site will provide to consumers, directly or through linkages to state databases, at a minimum: a localized list of all eligible child care providers, differentiating between licensed and license-exempt providers; any provider-specific information from a Quality Rating and Improvement System or information about other quality indicators, any other provider-specific information about compliance with licensing and health and safety requirements to the extent the information is publicly available and to the extent practicable; referrals to local resource and referral organizations from which consumers can find more information about child care providers; and state information about child care subsidy programs and other financial supports available to families.

National Hotline

The primary purpose of the parental complaint hotline is to provide parents with an easy way to submit complaints about unmet health and safety regulations or child abuse and neglect by a child care provider or their staff.

The design for a national parental complaint hotline will also respond to the CCDBG Act requirements, be toll free, and connect to a Lead Agency single point of contact as an additional option for parents and the public. While not intended as a child care referral call center, the national hotline will provide links to applicable state information. It will not serve as a federal investigatory system.

The value of parental complaint hotlines is illustrated by the longstanding national hotline established for the Department of Defense (DOD) military child care program. The Military Child Care Act of 1989 (Pub. L. 101-189) required the creation of a national 24-hour, toll-free hotline that allows parents to submit complaints about military child care centers anonymously. DOD has found the hotline to be an important tool in engaging parents in child care. In addition, complaints received through the hotline have helped DOD identify problematic child care programs. (Campbell, N., Appelbaum, J., Martinson, K., Be All That We Can Be: Lessons from the Military for Improving Our Nation's Child Care System, National Women's Law Center, 2000).

Request for Comments

ACF recognizes the diversity of existing systems and processes, information technology (IT) systems' capacity, investments, and limited resources (time, people, funding) available to Lead Agencies and their partners. We are not only interested in comments that describe effective and easy-to-use design features for a national parent complaint hotline and a national consumer education Web site, but also in how the design of both can help Lead Agencies as they adapt their systems to implement federal guidance. We welcome all comments and suggestions around the functions and features for both the national Web site and the national parent complaint hotline and encourage your input around the following:

National Consumer Complaint Hotline

• The national parent complaint hotline will be available for parents and providers who want to report health and safety violations or child abuse in CCDBG-eligible child care. What will parents and providers need to make the hotline easy to find and use?

• What protocols should be included for use with a national hotline to make sure that local, state, or territory authorities follow up on any complaints reported to the national parent complaint hotline?

• What types of information will help states and territories increase their ability to receive and share data with a national hotline?

• When thinking about the implementation of a parent complaint hotline, what barriers, challenges, and concerns come to mind related to current state policy and laws that might impact the ability of state and territory agencies and a national hotline to share information with each other?

National Consumer Education and Referral Web site

• The CCDBG Act of 2014 and proposed rules list the types of information that must be made available for parents and providers on a state, territory, and national Web site. What will parents and providers need to make this information useful when searching for high-quality early childhood services? In particular, what Web site design features will deliver information that is accurate and easy to find and understand, so that parents can easily find high-quality services that meet their needs? Are there any priorities?

• Providers may use the national Web site as a way to increase visibility of their programs and services. What kinds of information should providers be able to include that would help both themselves and parents?

• A primary tenant of the national Web site will be to link to Web sites, services, and data that state and territory lead agencies make available. To remove any overlap of services, what national Web site design options will support these efforts?

• When it comes to data availability, what national Web site supports will help existing state and local systems to participate in the national Web site? For example: would state and local systems benefit from guidance on how to develop effective web services, data governance, application programming interfaces (API), or creating standards for collection of data?

• With a focus on provider quality information and availability of data, what information or technical assistance will state and territories need to make this information available online?

• What technologies and strategies can be used to overcome barriers, challenges, and concerns regarding potential design models of a national Web site?

Dated: March 2, 2016.
Linda K. Smith,
Deputy Assistant Secretary for Early Childhood Development, Administration for Children and Families, U.S. Department of Health and Human Services.

[FR Doc. 2016-05085 Filed 3-7-16; 8:45 am]

BILLING CODE 4184-43-P